DEPARTMENT OF AGRICULTURE

Natural Resources Conservation Service

Notice of Meeting of the Agricultural Air Quality Task Force

AGENCY: Natural Resources Conservation Service (NRCS), Department of Agriculture.

ACTION: Notice of meeting.

SUMMARY: The Agricultural Air Quality Task Force (AAQTF) will meet to continue discussions on air quality issues relating to agriculture.

DATES: The meeting will convene on Tuesday, November 28, 2006, through Thursday, November 30, 2006. Public comment periods will be held on November 29 and 30. Individuals making oral presentations should register in person at the meeting site and must bring with them 50 copies of any materials they would like distributed. Written materials for the AAQTF's consideration prior to the meeting must be received by Dr. Diane E. Gelburd no later than Friday, November 3, 2006.

ADDRESSES: The meeting will be held at the Holiday Inn on the Hill, 415 New Jersey Avenue, SW., Washington, DC, 20001; telephone: (202) 638-1616, or (800) 638-1116.

FOR FURTHER INFORMATION CONTACT: Questions and comments should be directed to Dr. Diane E. Gelburd, Designated Federal Officer. Dr. Gelburd may be contacted at USDA, NRCS, 1400 Independence Avenue, SW., Room 6158-South, Washington, DC 20250; telephone: (202) 720-2587; e-mail: Diane.Gelburd@wdc.usda.gov.

SUPPLEMENTARY INFORMATION: Notice of this meeting is given under the Federal Advisory Committee Act, 5 U.S.C. App. 2. Additional information concerning the AAQTF may be found on the Internet at http://www.airquality.nrcs.usda.gov/AAQTF/.

Draft Agenda of the November 28-30, 2006 Meeting of the AAQTF

A. Welcome to Washington, DC.

B. Discussion of Minutes from Previous Meeting.

C. Discussion of Objectives for the Task Force and Federal Advisory Committee Act (FACA Rules and Responsibilities).

D. Scientific Updates and Presentations.

E. Policy Discussions—USDA and Environmental Protection Agency (EPA) Officials.

F. USDA Update.

G. EPA Update.

H. Next Meeting, Time and Place.

I. Public Comments.

(Time will be reserved on November 29 and November 30 to receive public comments. Individual presentations will be limited to 5 minutes.)

Procedural

This meeting is open to the public. At the discretion of the Chair, members of the public may give oral presentations during the meeting. Those persons wishing to make oral presentations should register in person at the meeting site. Those wishing to distribute written materials at the meeting (in conjunction with spoken comments) must bring 50 copies of the materials with them. Written materials for distribution to AAQTF members prior to the meeting must be received by Dr. Gelburd no later than Friday, November 3, 2006.

Information on Services for Individuals With Disabilities

For information on facilities or services for individuals with disabilities, or to request special assistance at the meeting, please contact Dr. Gelburd. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed in Washington, DC, on October 23, 2006.
Arlen L. Lancaster,
Chief.

[FR Doc. E6-18491 Filed 11-1-06; 8:45 am]

BILLING CODE 3410-16-P